FEDERAL COMMUNICATIONS COMMISSION

[DA 06-1485]

Consumer & Governmental Affairs Bureau Reminds Telecommunications Equipment Manufacturers and Telecommunications Services Providers of Their Obligations

AGENCY: Federal Communications Commission.

ACTION: Notice.

SUMMARY: In this document, the Commission reminds telecommunications equipment manufacturers and telecommunications service providers of their obligation to designate an agent for service of informal and formal complaints received by the Commission.

DATES: Effective July 21, 2006.

ADDRESSES: Federal Communications Commission, 445 12th Street, SW., Washington, DC 20554.

FOR FURTHER INFORMATION CONTACT: Arlene Alexander, (202) 418-0581 (voice), (202) 418-0183 (TTY), or e-mail: Arlene.Alexander@fcc.gov.

SUPPLEMENTARY INFORMATION: This is a summary of the Commission's document, DA 06-1485, released July 21, 2006. This designation or updated designation information may be sent to the Commission via e-mail to Section255_POC@fcc.gov. Contact information for section 255 telecommunications equipment manufacturers is posted on the Consumer & Governmental Affairs Bureau's Web site at: http://www.fcc.gov/cgb/dro/section255_manu.html; contact information for telecommunications service providers is posted at: http://www.fcc.gov/cgb/dro/service_providers.html; and contact information for affected colleges and universities is posted at: http://www.fcc.gov/cgb/dro/section255_colleges.html. The Commission asks that covered entities check this information for accuracy. If the information is not accurate, current, or if it is non-existent, please e-mail the correct information to Section255_POC@fcc.gov.

The full text of document DA 06-1485 and copies of any subsequently filed documents in this matter will be available for public inspection and copying during regular business hours at the FCC Reference Information Center, Portals II, 445 12th Street, SW., Room CY-A257, Washington, DC 20554. Document DA 06-1485 and copies of subsequently filed documents in this matter may also be purchased from the Commission's duplicating contractor at Portals II, 445 12th Street, SW., Room CY-B402, Washington, DC 20554. Customers may contact the Commission's contractor at their Web site www.bcpiweb.com or call 1-800-378-3160. Filings may also be viewed on the Consumer & Governmental Affairs Bureau's Disability Rights Office homepage at http://www.fcc.gov/cgb/dro.

To request materials in accessible formats for people with disabilities (Braille, large print, electronic files, audio format), send an e-mail to fcc504@fcc.gov or call the Consumer & Governmental Affairs Bureau at (202) 418-0530 (voice), (202) 418-0432 (TTY). This document, DA 06-1485, can also be downloaded in Word or Portable Document Format (PDF) at: http://www.fcc.gov/cgb/dro.

Synopsis

On September 29, 1999, the Commission released a Report and Order and Further Notice of Inquiry (RO & FNOI) that adopted regulations implementing section 255 of the Communications Act, which requires telecommunications equipment manufacturers and service providers to ensure that their products are accessible and usable to persons with disabilities, when readily achievable to do so. (See Implementation of sections 255 and 251(a)(2) of the Communications Act of 1934, as enacted by the Telecommunications Act of 1996, Report and Order and Further Notice of Inquiry (RO and FNOI), WT Docket No. 96-198, FCC 99-181, 16 FCC Rcd 6417 (September 29, 1999), published at 65 FR 63235, November 19, 1999). The regulations require, in part, that equipment manufacturers and service providers covered by section 255 of the Communications Act, designates an agent for service of informal and formal complaints received by the Commission. (See 47 CFR 6.18 and 7.18 of the Commission's rules). The designation shall include a name or department designation, business address, telephone number, and, if available, TTY number, facsimile number, and Internet e-mail address.

Federal Communications Commission.
Jay Keithley,
Deputy Chief, Consumer & Governmental Affairs Bureau.

[FR Doc. E6-12489 Filed 8-1-06; 8:45 am]

BILLING CODE 6712-01-P